DEPARTMENT OF ENERGY

Federal Energy Regulatory Commission

[Docket No. RP01-581-000]

Eastern Shore Natural Gas Company; Notice of Tariff Filing and Annual Charge Adjustment

September 7, 2001.

Take notice that on August 31, 2001, Eastern Shore Natural Gas Company (Eastern Shore) tendered for filing its Annual Charge Adjustment (ACA) filing proposed to be effective October 1, 2001.

Eastern Shore states that the revised tariff sheets are being filed pursuant to Section 32 of the General Terms and Conditions of Eastern Shore's FERC Gas Tariff, Second Revised Volume No. 1, to reflect a change of the ACA charge to $0.0021 per dt (the currently effective ACA charge is $0.0022 per dt) based on the Commission's Annual Charge Billing for Fiscal Year 2001.

Eastern Shore states that copies of its filing has been mailed to its customers and interested State Commissions.

Any person desiring to be heard or to protest said filing should file a motion to intervene or a protest with the Federal Energy Regulatory Commission, 888 First Street, NE., Washington, DC 20426, in accordance with Sections 385.214 or 385.211 of the Commission's Rules and Regulations. All such motions or protests must be filed on or before September 14, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-23133 Filed 9-14-01; 8:45 am]

BILLING CODE 6717-01-P